DEPARTMENT OF DEFENSE

Office of the Secretary

[Transmittal No. 25-80]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-80, Policy Justification, and Sensitivity of Technology.

Dated: January 26, 2026.
Stephanie J. Bost,
Alternate OSD Federal Register Liaison Officer, Department of Defense.

BILLING CODE6001-FR-P

BILLING CODE6001-FR-C

Transmittal No. 25-80

Notice of Proposed Issuance of Letter of Offer Pursuant to Section 36(b)(1) of the Arms Export Control Act, as amended

(i) Prospective Purchaser: Government of Denmark

(ii) Total Estimated Value:

Major Defense Equipment* | $270.2 million
Other | $48.2 million
Total | $318.4 million

(iii) Description and Quantity or Quantities of Articles or Services under Consideration for Purchase:

Major Defense Equipment (MDE):

Up to three-hundred forty (340) AIM-9X Block II Sidewinder tactical missiles

Up to thirty-four (34) AIM-9X Block II tactical guidance units

Non-Major Defense Equipment:

The following non-MDE items will also be included: training aids; weapon software; training; support equipment; spare and repair parts; publications and technical documentation; transportation; United States (U.S.) Government and contractor engineering, technical, and logistics support services; and other related elements of logistics and program support.

(iv) Military Department: Navy (DE-P-AEI)

(v) Prior Related Cases, if any: DE-P-AEC; DE-P-AEF)

(vi) Sales Commission, Fee, etc., Paid, Offered, or Agreed to be Paid: None known at this time

(vii) Sensitivity of Technology Contained in the Defense Article or Defense Services Proposed to be Sold: See Attached Annex

(viii) Date Report Delivered to Congress: November 12, 2025

* as defined in Section 47(6) of the Arms Export Control Act.

POLICY JUSTIFICATION

Denmark—AIM-9X Block II Tactical Missiles

The Government of Denmark has requested to buy up to three-hundred forty (340) AIM-9X Block II Sidewinder tactical missiles and up to thirty-four (34) AIM-9X Block II tactical guidance units. The following non-MDE items will also be included: training aids; weapon software; training; support equipment; spare and repair parts; publications and technical documentation; transportation; U.S. Government and contractor engineering, technical, and logistics support services; and other related elements of logistics and program support. The total estimated cost is $318.4 million.

This proposed sale will support the foreign policy goals and national security objectives of the U.S. by improving the security of a NATO Ally that is a force for political stability and economic progress in Europe.

The proposed sale will improve Denmark's capability to meet current and future threats by ensuring its aviation forces' interoperability with the U.S. and other allied forces as well as their ability to contribute to missions of mutual interest. Denmark currently operates the AIM-9X missile system with F-35A aircraft and ground-based air defense and will have no difficulty absorbing these articles and services into its armed forces.

The proposed sale of this equipment and support will not alter the basic military balance in the region.

The principal contractor will be RTX Corporation, located in Arlington, VA. At this time, the U.S. Government is not aware of any offset agreement proposed in connection with this potential sale. Any offset agreement will be defined in negotiations between the purchaser and the contractor.

Implementation of this proposed sale will require the assignment of four U.S. Government and four contractor representatives to Denmark on a temporary basis in conjunction with program technical oversight and support requirements.

There will be no adverse impact on U.S. defense readiness as a result of this proposed sale.

Transmittal No. 25-80

Notice of Proposed Issuance of Letter of Offer Pursuant to Section 36(b)(1) of the Arms Export Control Act

Annex

Item No. vii

(vii) Sensitivity of Technology:

1. The AIM-9X Block II and Block II+ (Plus) Sidewinder missile represents a substantial increase in missile acquisition and kinematics performance over the AIM-9M and replaces the AIM-9X Block I configuration. The missile includes a high off-boresight seeker, enhanced countermeasure rejection capability, a low drag/high angle of attack airframe, and the ability to integrate the Helmet Mounted Cueing System. The software algorithms are the most sensitive portion of the AIM-9X missile. The most current AIM-9X Block II/II+ Operational Flight Software is developed for international partner countries and is authorized for export by U.S. policy; it provides fifth-generation infrared capabilities such as lock-on-after-launch, weapons data link, surface attack, and surface launch. No software source code or algorithms will be released.

2. If a technologically advanced adversary were to obtain knowledge of the specific hardware and software elements, the information could be used to develop countermeasures that might reduce system effectiveness or be used in the development of a system with similar or advanced capabilities.

3. A determination has been made that Denmark can provide substantially the same degree of protection for the sensitive technology being released as the U.S. Government. This sale is necessary in furtherance of the U.S. foreign policy and national security objectives outlined in the Policy Justification.

4. The highest level of classification of defense articles, components, and services included in this potential sale is SECRET.

5. If a technologically advanced adversary were to obtain knowledge of the specific hardware and software elements, the information could be used to develop countermeasures that might reduce system effectiveness or be used in the development of a system with similar or advanced capabilities.

6. All defense articles and services listed in this transmittal have been authorized for release and export to the Government of Denmark.

[FR Doc. 2026-01718 Filed 1-28-26; 8:45 am]

BILLING CODE 6001-FR-P